DEPARTMENT OF LABOR

Wage and Hour Division

Agency Information Collection Activities; Comment Request; Information Collections: Disclosures to Workers Under the Migrant and Seasonal Agricultural Worker Protection Act

AGENCY: Wage and Hour Division, Department of Labor.

ACTION: Notice and request for comments.

SUMMARY: The Department of Labor, as part of its continuing effort to reduce paperwork and respondent burden, conducts a preclearance consultation program to provide the general public and federal agencies with an opportunity to comment on proposed and/or continuing collections of information in accordance with the Paperwork Reduction Act of 1995 (PRA). This program helps to ensure that requested data can be provided in the desired format, reporting burden (time and financial resources) is minimized, collection instruments are clearly understood, and the impact of collection requirements on respondents can be properly assessed. Currently, the Wage and Hour Division is soliciting comments concerning its proposal to revise Office of Management and Budget (OMB) approval of the Information Collection: Disclosures to Workers Under the Migrant and Seasonal Agricultural Worker Protection Act. A copy of the proposed information request can be obtained by contacting the office listed below in the FOR FURTHER INFORMATION CONTACT section of this notice.

DATES: Written comments must be submitted to the office listed in the ADDRESSES section below on or before May 9, 2023.

ADDRESSES: You may submit comments identified by Control Number 1235-0002, by either one of the following methods: Email: WHDPRAComments@dol.gov; Mail, Hand Delivery, Courier: Division of Regulations, Legislation, and Interpretation, Wage and Hour, U.S. Department of Labor, Room S-3502, 200 Constitution Avenue NW, Washington, DC 20210. Instructions: Please submit one copy of your comments by only one method. All submissions received must include the agency name and Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Robert Waterman, Division of Regulations, Legislation, and Interpretation, Wage and Hour, U.S. Department of Labor, Room S-3502, 200 Constitution Avenue NW, Washington, DC 20210; telephone: (202) 693-0406 (this is not a toll-free number). Alternative formats are available upon request by calling 1-866-487-9243. If you are deaf, hard of hearing, or have a speech disability, please dial 7-1-1 to access telecommunications relay services.

SUPPLEMENTARY INFORMATION:

I. Background: The Migrant and Seasonal Agricultural Worker Protection Act (MSPA) safeguards migrant and seasonal agricultural workers in their interactions with Farm Labor Contractors, Agricultural Employers and Agricultural Associations, and providers of migrant farm worker housing. See Public Law 97-470. MSPA requires Farm Labor Contractors, Agricultural Employers, and Agricultural Associations, who recruit, solicit, hire, employ, furnish, transport, or house agricultural workers, as well as providers of migrant housing, to meet certain minimum requirements in their dealings with migrant and seasonal agricultural workers. Various sections of the MSPA require respondents (e.g., Farm Labor Contractors, Agricultural Employers, and Agricultural Associations) to disclose terms and conditions in writing to their workers. MSPA sections 201(g) and 301(f) require providing such information in English or, as necessary and reasonable, in a language common to the workers and that the U.S. Department of Labor (Department) make forms available to provide such information. The Department makes optional-use form WH-516, Worker Information—Terms and Conditions of Employment available for these purposes.

MSPA sections 201(d) and 301(c)—29 U.S.C. 1821(d), 1831(c) and regulations 29 CFR 500.80(a), require each Farm Labor Contractor, Agricultural Employer, and Agricultural Association that employs a migrant or seasonal worker to make, keep, and preserve records for 3 years for each such worker concerning the (1) basis on which wages are paid; (2) number of piece work units earned, if paid on a piece work basis; (3) number of hours worked; (4) total pay period earnings; (5) specific sums withheld and the purpose of each sum withheld; (6) net pay. Respondents are also required to provide an itemized written statement of this information to each migrant and seasonal agricultural worker each pay period. See 29 U.S.C. 1821(d), 1831(c), and 29 CFR 500.1-.80(d). Additionally, MSPA sections 201(e) and 301(d) require each Farm Labor Contractor to provide copies of all the records noted above for the migrant and seasonal agricultural workers the contractor has furnished to other Farm Labor Contractors, Agricultural Employers, or Agricultural Associations who use the workers. Respondents must also make and keep certain records. Section 201(c) of the MSPA requires all Farm Labor Contractors, Agricultural Employers, and Agricultural Associations providing housing to a migrant agricultural worker to post in a conspicuous place at the site of the housing, or present to the migrant worker, a written statement of any housing occupancy terms and conditions. See 29 U.S.C. 1821(c); 29 CFR 500.75. In addition, MSPA section 201(g) requires them to provide such information in English, or as necessary and reasonable, in a language common to the workers. See 29 U.S.C. 1821(g). The provision also requires Department make the optional forms available to provide the required disclosures. See 29 U.S.C. 1821(g); 29 CFR 500.1(i)(2). The Department makes optional-use form WH-501, Wage Statement available for this purpose.

MSPA section 201(c)—29 U.S.C. 1821(c) and regulations 29 CFR 500.75(f)-(g), require each Farm Labor Contractor, Agricultural Employer, and Agricultural Association that provides housing for any migrant agricultural worker shall post in a conspicuous place at the site of the housing or present in the form of a written statement to the worker the following information on the terms and conditions of occupancy of such housing, if any: (1) The name and address of the farm labor contractor, agricultural employer or agricultural association providing the housing; (2) The name and address of the individual in charge of the housing; (3) The mailing address and phone number where persons living in the housing facility may be reached; (4) Who may live at the housing facility; (5) The charges to be made for housing; (6) The meals to be provided and the charges to be made for them; (7) The charges for utilities; and (8) Any other charges or conditions of occupancy. The provision also requires that the Department make the optional forms available to provide the required disclosures. See 29 U.S.C. 1821(c); 29 CFR 500.75(g). The Department makes optional-use form WH-521, Housing Terms and Conditions available for this purpose.

II. Review Focus: The Department of Labor is particularly interested in comments that:

• Evaluate whether the proposed collection of information is necessary for the proper performance of the functions of the agency, including whether the information will have practical utility;

• Enhance the quality, utility, and clarity of the information to be collected;

• Evaluate the accuracy of the agency's estimate of the burden of the proposed collection of information, including the validity of the methodology and assumptions used;

• Minimize the burden of the collection of information on those who are to respond, including through the use of appropriate automated, electronic, mechanical, or other technological collection techniques or other forms of information technology, e.g., permitting electronic submissions of responses.

III. Current Actions: The Department of Labor seeks an approval for the revision of this information collection in order to ensure effective administration of the Migrant and Seasonal Agricultural Worker Protection Act.

Type of Review: Revision.

Agency: Wage and Hour Division.

Title: Disclosure to Workers Under the Migrant and Seasonal Agricultural Worker Protection Act.

OMB Control Number: 1235-0002.

Affected Public: Business or other for-profit, Not-for-profit institutions, Farms.

Agency Numbers: Forms WH-501 (English and Spanish versions), WH-516 (English, Spanish and Haitian Creole versions), and WH-521.

Total Respondents: 94,729.

Total Annual Responses: 72,606,389.

Estimated Total Burden Hours: 1,228,769.

Estimated Time per Response: Various.

Frequency: On occasion.

Total Burden Cost (capital/startup/operation/maintenance): $2,904,255.

Dated: March 6, 2023.
Amy DeBisschop,
Director, Division of Regulations, Legislation, and Interpretation.

[FR Doc. 2023-04884 Filed 3-9-23; 8:45 am]

BILLING CODE P